DEPARTMENT OF AGRICULTURE

Forest Service

Medbow-Routt Resource Advisory Committee

AGENCY: Forest Service, USDA.

ACTION: Notice of meeting.

SUMMARY: The MedBow-Routt Resource Advisory Committee will meet in Walden, Colorado. The committee is meeting as authorized under the Secure Rural Schools and Community Self-Determination Act (Pub. L. 112-141) (the Act) and operates in compliance with the Federal Advisory Committee Act. The purpose of the committee is to improve collaborative relationships and to provide advice and recommendations to the Forest Service concerning projects and funding consistent with title II of the Act. The meeting is open to the public. The purpose of the meeting is to review and recommend projects authorized under title II of the Act, as well as to update RAC members on the progress of previously approved projects.

DATES: The meeting will be held September 13, 2012 at 10 a.m., Mountain Standard Time.

ADDRESSES: The meeting will be held at the Parks Ranger District Office, P.O. Box 158, 100 Main St., Walden, Colorado 80480. Written comments may be submitted as described under Supplementary Information. All comments, including names and addresses when provided, are placed in the record and are available for public inspection and copying. The public may inspect comments received at the Forest Supervisor's Office, 2468 Jackson Street, Laramie, Wyoming. Please call ahead to 307-745-2300 to facilitate entry into the building to view comments.

FOR FURTHER INFORMATION CONTACT: Aaron Voos, RAC Coordinator, 2468 Jackson Street, Laramie, Wyoming 82070, 307-745-2323 or atvoos@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The following business will be conducted: Review of the status of approved projects; discussion of travel reimbursement, review and discussion of new project proposal and public forum discussion. Anyone who would like to bring related matters to the attention of the committee may file written statements with the committee staff before or after the meeting. A public input session during the meeting will be provided and individuals who made written requests by Sept. 7, 2012 will have the opportunity to address the Committee at that session. Written comments should be sent to Phil Cruz, RAC DFO, 2468 Jackson Street, Laramie, Wyoming 82070. Comments may also be sent via email to pcruz@fs.fed.us, or via facsimile to 307-745-2467. For more information about the MedBow-Routt RAC, visit http://www.fs.usda.gov/goto/mbr/advisorycommittee. A summary of the meeting will be posted at the above Web site within 21 days of the meeting.

Meeting Accommodations: If you require sign language interpreting, assistive listening devices or other reasonable accommodation for access to the meeting please request this in advance by contacting the person listed in the section titled For Further Information Contact. All reasonable accommodation requests are managed on a case by case basis.

Dated: August 20, 2012.
Phil Cruz,
Forest Supervisor.

[FR Doc. 2012-20979 Filed 8-24-12; 8:45 am]

BILLING CODE 3410-11-P